DEPARTMENT OF TRANSPORTATION

Federal Railroad Administration

Notice of Funding Opportunity for the Federal-State Partnership for Intercity Passenger Rail Grants Program for Projects Not Located on the Northeast Corridor

AGENCY: Federal Railroad Administration (FRA), Department of Transportation (DOT).

ACTION: Notice of Funding Opportunity (NOFO or notice); Extension and Supplemental Funding Notice.

SUMMARY: FRA is adding funding and extending the application submittal period for its Fiscal Year (FY) 2022 NOFO for the Federal-State Partnership for Intercity Passenger Rail Program (FSP Program) for projects not located on the Northeast Corridor published on December 7, 2022. The basis for the funding increase and extension is the appropriation of additional amounts for the FSP Program from the Consolidated Appropriations Act, 2023, together with the government's goal of efficiently administering such funds.

DATES: The original due date was March 7, 2023. The period for submitting applications to the NOFO published on December 7, 2022, is extended. Applications must now be submitted by 5 p.m. EDT on April 21, 2023.

FOR FURTHER INFORMATION CONTACT: For further information concerning this Notice, please contact the FRA NOFO Support program staff via email at FRA-NOFO-Support@dot.gov.

Amendment

FRA amends its FY 2022 NOFO for the Federal-State Partnership for Intercity Passenger Rail Program (FSP Program) for projects not located on the Northeast Corridor published December 7, 2022 (87 FR 75119) https://www.govinfo.gov/content/pkg/FR-2022-12-07/pdf/2022-26610.pdf. by: (1) adding up to an additional $2,283,150,000 for a total of up to $4,566,300,000 and (2) extending the period for submitting applications to April 21, 2023.

Section B.1. Federal Award Information/Available Award Amount is deleted in its entirety, and the following is substituted therefore:

B. Federal Award Information

1. Available Award Amount

The total funding available for awards under this NOFO is up to $4,566,300,000 made available by IIJA supplemental appropriations, the Appropriations Act, and the Consolidated Appropriations Act, 2023 (Pub. L. 117-328, December 29, 2022), as follows:

a. Up to $4,464,000,000 in IIJA supplemental appropriations: Title VIII of Division J of IIJA provided $36,000,000,000 in supplemental appropriations for the FSP Program, with not more than $24,000,000,000 made available for projects for the NEC and thus at least $12,000,000,000 of such funds made available for FSP-National ($2,400,000,000 made available per year for fiscal years 2022 through 2026). After the funding set aside for FRA award and project management oversight and the planning and development activities authorized at 49 U.S.C. 24911(k), up to $4,464,000,000 in funding made available for fiscal year 2022 and fiscal year 2023 is made available for FSP Program awards under this FSP-National NOFO.

b. Up to $102,300,000 in fiscal year 2022 and fiscal year 2023 annual appropriations: The appropriations acts for fiscal year 2022 and fiscal year 2023 provided $200,000,000 for the FSP Program. Consistent with 49 U.S.C. 24911(d)(3), a minimum of 45 percent and a maximum of 55 percent of this amount is for FSP-National, of which not less than 20 percent (a minimum of $16,740,000) shall be for projects that benefit (in whole or in part) a long-distance route. After the funding set aside for FRA award and project management oversight and the planning and development activities authorized at 49 U.S.C. 24911(k), at least $83,700,000 and up to $102,300,000 in fiscal year 2022 and fiscal year 2023 annual funding is made available for FSP Program awards under this FSP-National NOFO.

Should additional FSP-National funds become available after the release of this NOFO, FRA may elect to award such additional funds to applications received under this NOFO. Any selection and award under this NOFO is subject to the availability of appropriated funds.

Issued in Washington, DC.
Amitabha Bose,
Administrator.

[FR Doc. 2023-02346 Filed 2-2-23; 8:45 am]

BILLING CODE 4910-06-P